DEPARTMENT OF THE INTERIOR

Fish and Wildlife Service

[FWS-R2-ES-2011-N072; 20124-1113-0000-F5]

Endangered and Threatened Species Permit Applications

AGENCY: Fish and Wildlife Service, Interior.

ACTION: Notice of receipt of applications; request for public comment.

SUMMARY: The following applicants have applied for scientific research permits to conduct certain activities with endangered species under the Endangered Species Act of 1973, as amended (Act). The Act requires that we invite public comment on these permit applications.

DATES: To ensure consideration, written comments must be received on or before June 6, 2011.

ADDRESSES: Written comments should be submitted to the Chief, Endangered Species Division, Ecological Services, P.O. Box 1306, Room 6034, Albuquerque, NM 87103. Documents and other information submitted with these applications are available for review, subject to the requirements of the Privacy Act and Freedom of Information Act. Documents will be available for public inspection, by appointment only, during normal business hours at the U.S. Fish and Wildlife Service, 500 Gold Ave., SW., Room 6034, Albuquerque, NM. Please refer to the respective permit number for each application when submitting comments.

FOR FURTHER INFORMATION CONTACT: Susan Jacobsen, Chief, Endangered Species Division, P.O. Box 1306, Albuquerque, NM 87103; (505) 248-6920.

SUPPLEMENTARY INFORMATION:

Public Availability of Comments

Before including your address, phone number, e-mail address, or other personal identifying information in your comment, you should be aware that your entire comment—including your personal identifying information—may be made publicly available at any time. While you can ask us in your comment to withhold your personal identifying information from public review, we cannot guarantee that we will be able to do so.

Permit TE-37047A

Applicant: Sea World Parks and Entertainment, San Antonio, Texas.

Applicant requests a new permit for husbandry and holding of green sea turtles (Chelonia mydas), hawksbill sea turtles (Eretmochelys imbricate), Kemps ridley sea turtles (Lepidochelys kempii), and leatherback sea turtles (Dermochelys coriacea) at Sea World Park in San Antonio, Texas.

Permit TE-067869

Applicant: Rhea Environmental Consulting, Mancos, Colorado.

Applicant requests a renewal to a current permit for research and recovery purposes to conduct presence/absence surveys for southwestern willow flycatcher (Empidonax traillii extimus) within Arizona, New Mexico, Colorado, and Utah.

Permit TE-150490

Applicant: John Maresh, Austin, Texas.

Applicant requests a renewal to a current permit for research and recovery purposes to conduct presence/absence surveys for golden-cheeked warbler (Dendroica chrysoparia) and black-capped vireo (Vireo atricapilla) within Texas.

Permit TE-063395

Applicant: Oklahoma Aquarium, Jenks, Oklahoma.

Applicant requests an amendment to a current permit for holding, husbandry, and educational display for two non-releasable green sea turtles (Chelonia mydas) at the Oklahoma Aquarium.

Permit TE-828640

Applicant: Harris Environmental Group, Tucson, Arizona.

Applicant requests a renewal to a current permit for research and recovery purposes to conduct presence/absence surveys for lesser long-nosed bat (Leptonycteris yerbabuenae), northern aplomado falcon (Falco femeralis septentrionalis), and southwestern willow flycatcher (Empidonax traillii extimus) within Arizona.

Permit TE-37484A

Applicant: Balcones Canyonlands National Wildlife Refuge, Marble Falls, Texas.

Applicant requests a new permit for research and recovery purposes to conduct presence/absence surveys for black-capped vireo (Vireo atricapilla) and golden-cheeked warbler (Dendroica chrysoparia) within the refuge.

Permit TE-38725A

Applicant: Geo-Marine, Inc., Plano, Texas.

Applicant requests a new permit for research and recovery purposes to conduct presence/absence surveys for Louisiana black bear (Ursus americanus luteolus) and white bladderpod (Lesquerella pallida) within Texas.

Permit TE-38748A

Applicant: Carlotta Copper Company, Fort Collins, Colorado.

Applicant requests a new permit for research and recovery purposes to collect seeds, propagate, and create receiving areas for transplants of Arizona hedgehog cactus (Echinocereus triglochidiatus var. arizonicus) within Arizona.

Authority: 16 U.S.C. 1531 et seq.

Dated: April 18, 2011.
Joy E. Nicholopoulos,
Acting Regional Director, Southwest Region, Fish and Wildlife Service.

[FR Doc. 2011-11078 Filed 5-5-11; 8:45 am]

BILLING CODE 4310-55-P